DEPARTMENT OF EDUCATION

[Docket ID ED-2013-OELA-0117]

Request for Information To Inform the Title III Evaluation and Research Studies Agenda

AGENCY: Office of English Language Acquisition, Language Enhancement, and Academic Achievement for Limited English Proficient Students, Department of Education.

ACTION: Request for information.

SUMMARY: The U.S. Department of Education (Department) requests information on priorities for future evaluation and research studies needed to inform effective instruction, assessment, and professional development that is responsive to the needs of English learners (ELs).

DATES: Written submissions must be received by the Department by October 9, 2013.

ADDRESSES: Submit your comments through the Federal eRulemaking Portal or via postal mail, commercial delivery, or hand delivery. We will not accept comments by fax or by email. To ensure that we do not receive duplicate copies, please submit your comments only once. In addition, please include the Docket ID and the term “Evaluation Studies” at the top of your comments.

• Federal eRulemaking Portal: Go to www.regulations.gov to submit your comments electronically. Information on using Regulations.gov, including instructions for accessing agency documents, submitting comments, and viewing the docket, is available on the site under “Are you new to this site?”

• Postal Mail, Commercial Delivery, or Hand Delivery: If you mail or deliver your comments, address them to Elizabeth Judd, Office of English Language Acquisition, Attention: Evaluation RFI, U.S. Department of Education, 400 Maryland Avenue SW., Room 5C126, Washington, DC 20202-6132.

• Privacy Note: The Department's policy for comments received from members of the public (including comments submitted by mail, commercial delivery, or hand delivery) is to make these submissions available for public viewing in their entirety on the Federal eRulemaking Portal. at www.regulations.gov. Therefore, commenters should be careful to include in their comments only information that they wish to make publicly available on the Internet.

Submission of Proprietary Information: Given the subject matter, some comments may include proprietary information as it relates to confidential commercial information. The Freedom of Information Act defines “confidential commercial information” as information the disclosure of which could reasonably be expected to cause substantial competitive harm. You may wish to request that we not disclose what you regard as confidential commercial information.

To assist us in making a determination on your request, we encourage you to identify any specific information in your comments that you consider confidential commercial information. Please list the information by page and paragraph numbers.

This Request for Information (RFI) is issued solely for information and planning purposes and is not a request for proposals (RFP), a notice inviting applications (NIA), or a promise to issue an RFP or NIA. This RFI does not commit the Department to contract for any supply or service whatsoever. Further, the Department is not now seeking proposals and will not accept unsolicited proposals. The Department will not pay for any information or administrative costs that you may incur in responding to this RFI.

If you do not respond to this RFI, you may still apply for future contracts and grants. The Department posts RFPs on the Federal Business Opportunities Web site (www.fbo.gov). The Department announces grant competitions in the Federal Register (www.gpo.gov/fdsys). It is your responsibility to monitor these sites to determine whether the Department issues an RFP or NIA after considering the information received in response to this RFI.

The documents and information submitted in response to this RFI become the property of the U.S. Government and will not be returned.

FOR FURTHER INFORMATION CONTACT: Elizabeth Judd, U.S. Department of Education, 400 Maryland Avenue SW., Room 5C126, Washington, DC 20202-6132 or by phone at 202-401-1407.

If you use a telecommunications device for the deaf (TDD) or a text telephone (TTY), call the Federal Relay Service (FRS), toll free, at 1-(800) 877-8339.

SUPPLEMENTARY INFORMATION:

Introduction

The Elementary and Secondary Education Act (ESEA) of 1965, as amended, holds States accountable for closing achievement gaps and ensuring that all children, including children with limited English proficiency, meet the same challenging academic and achievement standards all students are expected to meet. To this end, Title III of the ESEA requires States to develop English language proficiency (ELP) standards that are aligned with challenging State academic content and student academic achievement standards. States must also develop and administer ELP assessments that are aligned with those standards, and must develop annual measurable achievement objectives (AMAOs) for English language proficiency.

To support EL student achievement, States, school districts and schools need information on effective EL instruction, assessment, and professional development practices that is informed by data from current research. With this RFI we seek to gather information on the evaluation and research studies needs of the field, which may include the needs of administrators, teachers, teacher trainers, researchers, and other members of the English learner community. The Department anticipates making use of this information to inform the development of our evaluation and research agenda in the coming years and to guide future evaluation and research studies addressing the needs of ELs.

Information on Department studies related to the needs of English learners is posted on the following Web site: http://www.ncela.gwu.edu/edpubs/.

Once we receive responses to this RFI, the Department will summarize the recommendations made by the public and post that summary on the Office of English language Acquisition, Language Enhancement, and Academic Achievement for Limited English Proficient Students (OELA) and the National Clearinghouse for English Language Acquisition (NCELA) Web sites for viewing. We will use the information received through this RFI to develop an agenda for evaluation and research studies that we will also publish on the OELA and NCELA Web sites.

Context for Responses

The primary goal of this RFI is to gather information that will help shape the Department's evaluation and research studies agenda.

We have developed a question with topic areas. We request information about evaluation and research studies that would be most helpful in shaping the Department's evaluation and research agenda. You do not have to respond to each topic area included in the question; however, it would be helpful if you would elaborate on each topic you choose to address. You may provide comments in any convenient format, and you may also provide relevant information that is not directly responsive to a particular topic but may, nevertheless, be helpful.

General Question Regarding potential evaluation and research studies.

In which of the following areas should the Department conduct new studies or conduct a review of the literature on existing studies?

a. Identification, screening, and assessment practices of ELs in general, or in particular, who are (1) Early learners, (2) students with disabilities, (3)secondary students, (4) students with interrupted formal education, or (5) other category of ELs.

b. Strategies for data collection, data analysis, and data-based decision-making with respect to EL assessment data.

c. The alignment of ELP standards with college- and career-ready standards and the alignment of ELP assessments with ELP standards, including assessments that are accessible to, and usable with, ELs with disabilities.

d. Key features of instruction for ELs that promote language acquisition, including academic language, social language, and content knowledge in various educational programs that provide instruction in English or in English and another language.

e. Technology-based instructional strategies that promote EL achievement.

f. Characteristics of professional development that prepares prospective teachers or currently practicing teachers who are language development specialists or content teachers of ELs to design and deliver instruction that promotes language acquisition and content knowledge.

Accessible Format: Individuals with disabilities can obtain this document in an accessible format (e.g., braille, large print, audiotape, or compact disc) upon request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 6801-7014.

Dated: September 3, 2013.
Joseph C. Conaty,
Acting Director, Office of English Language Acquisition, Language Enhancement, and Academic Achievement for Limited English Proficient Students.

[FR Doc. 2013-21767 Filed 9-6-13; 8:45 am]

BILLING CODE 4000-01-P